DEPARTMENT OF ENERGY

Federal Energy Regulatory Commission

Combined Notice of Filings #1

Take notice that the Commission received the following electric rate filings:

Docket Numbers: ER14-2574-004.

Applicants: California Independent System Operator Corporation.

Description: Compliance filing per 35: 2015-03-26_FRAC_MOO_Compliance to be effective 11/1/2014.

Filed Date: 3/26/15.

Accession Number: 20150326-5225.

Comments Due: 5 p.m. ET 4/16/15.

Docket Numbers: ER14-2864-004.

Applicants: PJM Interconnection, L.L.C.

Description: Tariff Amendment per 35.17(b): Errata to Compliance Filing in ER14-2864 to Correct Effective Date to be effective 11/12/2014.

Filed Date: 3/26/15.

Accession Number: 20150326-5263.

Comments Due: 5 p.m. ET 4/16/15.

Docket Numbers: ER15-1066-001.

Applicants: Red Horse Wind 2, LLC.

Description: Tariff Amendment per 35.17(b): Red Horse 2, LLC—Amended MBR Tariff to be effective 3/27/2015.

Filed Date: 3/27/15.

Accession Number: 20150327-5202.

Comments Due: 5 p.m. ET 4/17/15.

Docket Numbers: ER15-1344-001.

Applicants: PJM Interconnection, L.L.C.

Description: Tariff Amendment per 35.17(b): Errata to Filing in ER15-1344-000 to Correct Proposed Effective Date to be effective 6/18/2015.

Filed Date: 3/27/15.

Accession Number: 20150327-5089.

Comments Due: 5 p.m. ET 4/20/15.

Docket Numbers: ER15-1387-000.

Applicants: PJM Interconnection, L.L.C., Potomac Electric Power Company.

Description: Section 205(d) rate filing per 35.13(a)(2)(iii): PJM TOs submit revisions to OATT Schedule 12 re Allocation of Costs Local TOs to be effective 5/25/2015.

Filed Date: 3/26/15.

Accession Number: 20150326-5236.

Comments Due: 5 p.m. ET 4/16/15.

Docket Numbers: ER15-1388-000.

Applicants: Southern California Edison Company.

Description: Section 205(d) rate filing per 35.13(a)(2)(iii): Notices of Cancellation SGIA and Distribution Service Agmt Adelanto Greenworks A to be effective 11/18/2014.

Filed Date: 3/27/15.

Accession Number: 20150327-5001.

Comments Due: 5 p.m. ET 4/17/15.

Docket Numbers: ER15-1389-000.

Applicants: Idaho Power Company.

Description: Section 205(d) rate filing per 35.13(a)(2)(iii): Communications Replacement Agreement w/PacifiCorp—Borah-Populus Telemetry to be effective 3/24/2015.

Filed Date: 3/27/15.

Accession Number: 20150327-5002.

Comments Due: 5 p.m. ET 4/17/15.

Docket Numbers: ER15-1390-000.

Applicants: Midcontinent Independent System Operator, Inc., Ameren Illinois Company.

Description: Section 205(d) rate filing per 35.13(a)(2)(iii): 2015-03-27_SA 2760 Ameren-ComEd Tazewell CA to be effective 3/3/2015.

Filed Date: 3/27/15.

Accession Number: 20150327-5075.

Comments Due: 5 p.m. ET 4/17/15.

Docket Numbers: ER15-1391-000.

Applicants: New York Independent System Operator, Inc.

Description: Section 205(d) rate filing per 35.13(a)(2)(iii): 205 OATT Attchmnts K & L rvsns periodicity of ETA updates to Table 1A to be effective 5/26/2015.

Filed Date: 3/27/15.

Accession Number: 20150327-5132.

Comments Due: 5 p.m. ET 4/17/15.

Docket Numbers: ER15-1392-000.

Applicants: Midcontinent Independent System Operator, Inc.

Description: Section 205(d) rate filing per 35.13(a)(2)(iii): 2015-03-27_Montezuma-Tipton Attachment O Revisions to be effective 6/1/2015.

Filed Date: 3/27/15.

Accession Number: 20150327-5151.

Comments Due: 5 p.m. ET 4/17/15.

Docket Numbers: ER15-1393-000.

Applicants: Spring Energy RRH, LLC.

Description: Section 205(d) rate filing per 35.13(a)(2)(iii): Notice of Succession to be effective 3/6/2015.

Filed Date: 3/27/15.

Accession Number: 20150327-5171.

Comments Due: 5 p.m. ET 4/17/15.

Take notice that the Commission received the following PURPA 210(m)(3) filings:

Docket Numbers: QM14-3-000.

Applicants: Entergy Arkansas, Inc., Entergy Gulf States Louisiana, L.L.C., Entergy Louisiana, LLC, Entergy Mississippi, Inc., Entergy New Orleans, Inc., Entergy Services, Inc., Entergy Texas, Inc.

Description: Response to Second Deficiency Letter of Entergy Services, Inc., et. al.

Filed Date: 3/27/15.

Accession Number: 20150327-5221.

Comments Due: 5 p.m. ET 4/24/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 27, 2015.
Nathaniel J. Davis, Sr.,
Deputy Secretary.

[FR Doc. 2015-07688 Filed 4-2-15; 8:45 am]

BILLING CODE 6717-01-P